DEPARTMENT OF VETERANS AFFAIRS

Announcement for Public Meeting Regarding Health Care Access Standards

AGENCY: Department of Veterans Affairs.

ACTION: Announcement of public meeting.

SUMMARY: The Department of Veterans Affairs (VA) is holding a public meeting to seek information from pertinent entities relating to implementation of 1703B of title 38, United States Code, as added by section 104(a) of the John S. McCain III, Daniel K. Akaka, and Samuel R. Johnson VA Maintaining Internal Systems and Strengthening Integrated Outside Networks (MISSION) Act of 2018 (the VA MISSION Act) which directs VA to establish access standards for furnishing hospital care, medical services, and extended care services to covered veterans for purposes of the Veterans Community Care Program. In establishing these access standards, VA is required to consult with all pertinent Federal, private sector, and non-governmental entities. VA requests information from the public regarding the development of these access standards, including but not limited to information on the use of access standards for the design of health plan provider networks, referrals from network providers to out-of-network providers, the appeals process for exemptions from benefit limits to out-of-network providers, the existence of standards for appointment wait times, the use of travel distance for establishing service areas, the development or use of guidelines to refer patients to out of network providers, and the measurement of performance against federal and state regulatory standards. Responses to this notice will support industry research and VA's development of access standards.

DATES: VA will hold the public meeting on July 13, 2018, in Arlington, VA. The meeting will start at 9:00 a.m. and conclude on or before 5:00 p.m. Check-in will begin at 8:00 a.m.

ADDRESSES: The meeting will be held at the VHA National Conference Center at 2011 Crystal Drive, Arlington, VA 22202. This facility is accessible to individuals with disabilities.

* In-person attendance will be limited to 50 individuals. Advanced registration for individuals and groups is strongly encouraged (see registration instructions below). For listening purposes only (phone lines will be muted), the meeting will be available via audio which can be accessed by dialing 1-800-767-1750 access code 21398.

Please submit all written comments no later than Monday, July 30, by any of the following methods:

• Federal Rulemaking Portal: Go to http://www.regulations.gov. Follow the online instructions for submitting comments.

• Mail, Hand Delivery, Courier: Postmarked no later than July 30, 2018, to: Director of Regulations Management (00REG), Department of Veterans Affairs, 810 Vermont Ave. NW, Room 1063B, Washington, DC 20420.

Note: Copies of comments received will be available for public inspection in the Office of Regulation Policy and Management, Room 1063B, between the hours of 8:00 a.m. and 4:30 p.m., Monday through Friday (except Federal Holidays). Please call (202) 461-4902 (this is not a toll-free number) for an appointment.

• Fax: (202) 273-9026, ATTENTION: Director of Regulations Management (00REG). All submissions must include the agency name and docket number. Note that all comments received will be posted and can be viewed online through the Federal Docket Management System at http://www.regulations.gov.

FOR FURTHER INFORMATION CONTACT: Christina Hosenfeld, Management Analyst, Office of the Deputy Under Secretary for Health for Community Care, Veterans Health Administration, Department of Veterans Affairs, 810 Vermont Avenue NW, Washington, DC 20420, (202) 461-4112. This is not a toll free number.

SUPPLEMENTARY INFORMATION: The John S. McCain III, Daniel K. Akaka, and Samuel R. Johnson VA Maintaining Internal Systems and Strengthening Integrated Outside Networks Act of 2018, Public Law 115-182, (the VA MISSION Act) created a new 1703B in title 38, United States Code (U.S.C.), that contains requirements for VA to facilitate the establishment and use of access standards. Section 1703B(c) specifically requires VA to consult with all pertinent Federal entities, entities in the private sector, and other nongovernmental entities in establishing access standards. This public meeting serves as one of the means for VA to consult with these groups and entities. We note that VA has published a request for information in the Federal Register in order to provide these groups and entities an opportunity to provide additional information. The request for information mentioned above can be found in www.regulations.gov under the title of “Notice of Request for Information Regarding Health Care Access Standards.” Comments should indicate that they are submitted in response to “Notice of Request for Information Regarding Health Care Access Standards.” VA will use the statements and testimonials presented at the public hearing to help determine the access standards in compliance with the VA MISSION Act. VA will then submit a report, no later than March 3, 2019, as required by section 1703B(d)(1), detailing the access standards to the appropriate committees of Congress. The access standards will ultimately be published in the Federal Register and will be made available on a VA internet website.

In order to submit a report to Congress detailing the access standards by March 3, 2019, VA must expedite this consultation, which will be foundational to the process of determining the access standards.

Registration: In-person attendance and participation in this meeting is limited to 50 individuals. VA has the right to refuse registration for in-person attendance once the maximum capacity of 50 individuals has been reached. Individuals interested in attending in-person should request registration by emailing Krinessa Pinkett at krinessa.pinkett@va.gov. A confirmation message will be provided within 1-2 business days after a request has been received, and individuals will be notified via email by July 9, 2017, confirming their attendance in-person. Attendees wanting to offer oral comments, testimonies, and/or technical remarks should indicate their intentions upon registration.

Individual registration: VA encourages individual registrations for those not affiliated with or representing a group, association, or organization.

Group registration: Identification of the name of the group, association, or organization should be indicated in your registration request. Due to the meeting location's maximum capacity, VA may limit the size of a group's registration to allow receipt of comments, testimonies, and/or technical remarks from a broad, diverse group of stakeholders. Oral comments, testimonies, and/or technical remarks may be limited from a group, association or organization with more than two (2) individuals representing the same group, association, or organization. Efforts will be made to accommodate all attendees who wish to attend in-person. However, VA will give priority for in-person attendance to pertinent Federal, private sector, and non-governmental entities who request registration before July 5, 4:00 p.m. ET, and wish to provide oral comments, testimonies, and/or technical remarks. Please provide the number and names of people your organization would like to send in-person, and VA will accommodate as space allows; organizations should list names in the order of importance of their attendance to ensure that VA allows admission for the right representatives. The length of time allotted for attendees to provide oral comments, testimonies and/or technical remarks during the meeting may be subject to the number of in-person attendees, and to ensure ample time is allotted to those registered attendees. There will be no opportunity for audio-visual presentations during the meeting. Written comments will be accepted by those attending in-person (see above instructions for submitting written comments).

Audio (for listening purposes only): Limited to the first 200 participants, on a first come, first served basis. Advanced registration is not required. Audio attendees will not be allowed to offer oral comments, testimonies, and/or technical remarks as the phone line will be muted. Written comments will be accepted from those participating via audio (see above instructions for submitting written comments).

Note: VA will conduct the public meeting informally, and technical rules of evidence will not apply. VA will arrange for a written transcript of the meeting and keep the official record open for 15 days after the meeting to allow submission of supplemental information. You may make arrangements for copies of the transcript directly with the reporter, and the transcript will also be posted in the docket of the rule as part of the official record when the rule is published. Should it be necessary to cancel the meeting due to inclement weather or other emergencies, VA will take available measures to notify registered participants.

Agenda

08:00-09:00 Arrival/Check-In

09:00-12:00 Morning Public Meeting Session

12:00-13:00 Lunch Break (Note: Meals will not be provided by VA.)

13:00-17:00 Afternoon Public Meeting Session

17:00 Adjourn

Public Meeting Topics

Pursuant to section 1703B(c) of title 38, U.S.C., as added by section 104(a) of Public Law 115-182, (the VA MISSION Act), VA requests information that will assist in developing the access standards required by section 1703B(a)(1). This includes information regarding the development of these access standards, including but not limited to information on the use of access standards for the design of health plan provider networks, referrals from network providers to out-of-network providers, the appeals process for exemptions from benefit limits to out-of-network providers, the existence of standards for appointment wait times, the use of travel distance for establishing service areas, the development or use of guidelines to refer patients to out of system providers, and the measurement of performance against regulatory standards.

Specifically, VA requests information from health plans and systems related to the below:

1. Do health plans use internal access standards for the design of provider networks and the application of in network/out of network benefits that are more stringent than regulatory standards (time or distance of travel, appointment wait times, provider/member ratios)? If so, what are these internal standards? How does the health plan measure performance against regulatory and internal access standards? How does the health plan respond to findings when access standards are not being met? Are current regulatory access standards cost-effective while maintaining quality standards? Do health plans have a process to handle routine requests from members or referring providers for exemptions to benefit limits when members seek out of network care or a lower tier provider?

2. Do health plans allow for appeals by providers or members to request exemptions from benefit limits related to out of network care or care by a lower tier provider? Is external review allowed for such appeals?

3. What are health plan practices regarding internal, regulatory, and/or accreditation standards for appointment wait times, including variance by specialty or type of service? How does the health plan use travel distance or time and/or provider-to-population ratios in deciding which geographic areas to consider as primary or secondary service areas?

4. Are clinicians within the health system given guidelines or rules on when to refer patients to out of system providers? For example, are clinicians encouraged to refer out of system if in-system wait times are longer than standard, travel time or distance to an in-system provider is too long, the patient's ability to travel is compromised or the frequency of treatment makes travel to an in-network provider difficult?

Signing Authority

The Secretary of Veterans Affairs, or designee, approved this document and authorized the undersigned to sign and submit the document to the Office of the Federal Register for publication electronically as an official document of the Department of Veterans Affairs. Jacquelyn Hayes-Byrd, Acting Chief of Staff, Department of Veterans Affairs, approved this document on June 25, 2018, for publication.

Dated: June 25, 2018.
Jeffrey M. Martin,
Impact Analyst, Office of Regulation Policy & Management, Office of the Secretary, Department of Veterans Affairs.

[FR Doc. 2018-13951 Filed 6-28-18; 8:45 am]

BILLING CODE 8320-01-P